DEPARTMENT OF COMMERCE

Bureau of Industry and Security

Change in Comment Deadline for Section 232 National Security Investigation of Imports of Aluminum

AGENCY: Bureau of Industry and Security, Office of Technology Evaluation, U.S. Department of Commerce.

ACTION: Notice on change in comment period for previously published notice of request for public comments and public hearing.

SUMMARY: On May 9, 2017, the Bureau of Industry and Security (BIS), published the Notice of Request for Public Comments and Public Hearing on Section 232 National Security Investigation of Imports of Aluminum. The May 9 notice specified that the Secretary of Commerce initiated an investigation to determine the effects on the national security of imports of aluminum. This investigation has been initiated under section 232 of the Trade Expansion Act of 1962, as amended. (See the May 9 notice for additional details on the investigation and the request for public comments.) The May 9 notice also announced that the Department of Commerce will hold a public hearing on the investigation on June 22, 2017 in Washington, DC (See the May 9 notice for additional details on the public hearing.) The deadline for the written comments was June 29, 2017. Today's notice moves the deadline for all written submissions up by six calendar days. Commenters now are encouraged to submit their comments by June 20, 2017, but all written submissions must be received by no later than June 23, 2017 to be considered in the drafting of the final report.

DATES: Comments are encouraged to be submitted by June 20, but comments must be received no later than June 23, 2017.

ADDRESSES: Send written comments to Brad Botwin, Director, Industrial Studies, Office of Technology Evaluation, Bureau of Industry and Security, U.S. Department of Commerce, 1401 Constitution Avenue NW., Room 1093, Washington, DC 20230 or by email to Aluminum232@bis.doc.gov.

FOR FURTHER INFORMATION CONTACT: Brad Botwin, Director, Industrial Studies, Office of Technology Evaluation, Bureau of Industry and Security, U.S. Department of Commerce (202) 482-4060, brad.botwin@bis.doc.gov. For more information about the section 232 program, including the regulations and the text of previous investigations, see www.bis.doc.gov/232.

Submit public comments to Aluminum232@bis.doc.gov.

SUPPLEMENTARY INFORMATION:

Background

On May 9, 2017 (82 FR 21509), the Bureau of Industry and Security (BIS) published the Notice of Request for Public Comments and Public Hearing on Section 232 National Security Investigation of Imports of Aluminum. The May 9 notice specified that on April 26, 2017, the Secretary of Commerce (“Secretary”) initiated an investigation under section 232 of the Trade Expansion Act of 1962, as amended (19 U.S.C. 1862), to determine the effects on the national security of imports of aluminum. (See the May 9 notice for additional details on the investigation and the request for public comments.)

The May 9 notice also announced that the Department of Commerce will hold a public hearing on the investigation on June 22, 2017 in Washington, DC. (See the May 9 notice for additional details on the public hearing.)

Change in Comment Period Deadline

The May 9 notice included a comment period deadline of June 29, 2017 and required that written statements related to the public hearing also be submitted by June 29, 2017. The Department of Commerce has determined at this time that it is warranted to shorten the written submission period by six calendar days. Today's notice specifies that commenters are encouraged to submit their comments by June 20, 2017, but all written submissions must now be received by no later than June 23, 2017 to be considered in the drafting of the final report. Submit public comments to Aluminum232@bis.doc.gov.

Receiving comments by June 20, 2017 will assist the Commerce Department in preparing for the public hearing on the investigation scheduled for June 22, 2017. Moving the deadline for all written submissions to June 23, 2017 will enable the Commerce Department to more expeditiously finalize the report, taking account of the time-sensitive nature of the national security implications related to this section 232 investigation of aluminum, and of the President's direction to move quickly on this important matter. The Commerce Department has included one additional day after the hearing concludes to allow people who attend or view remotely the hearing to submit any additional comments they may have in response to testimony during the hearing.

Dated: May 31, 2017.
Wilbur Ross,
Secretary of Commerce.

[FR Doc. 2017-11557 Filed 5-31-17; 4:15 pm]

BILLING CODE 3510-33-P